DEPARTMENT OF COMMERCE

International Trade Administration

A-570-846

Brake Rotors from the People's Republic of China: Initiation of Twelfth New Shipper Antidumping Duty Review

AGENCY: Import Administration, International Trade Administration, Department of Commerce.

SUMMARY: The Department of Commerce received two requests on October 28, 2004, to conduct a new shipper review of the antidumping duty order on brake rotors from the People's Republic of China (“PRC”). In accordance with 19 CFR 351.214(d), we are initiating a new shipper review for the companies that requested such a review: Dixion Brake System (Longkou) Ltd. (“Dixion”) and Laizhou Wally Automobile Co., Ltd. (“Wally”), each of which is a producer and exporter of brake rotors from the PRC.

EFFECTIVE DATE: December 6, 2004.

FOR FURTHER INFORMATION CONTACT: Cindy Robinson or Tom Killiam, Import Administration, International Trade Administration, U.S. Department of Commerce, 14th Street and Constitution Avenue, NW., Washington, DC 20230; telephone (202) 482-3797 or (202) 482-5222, respectively.

SUPPLEMENTARY INFORMATION:

Background

The Department received timely requests on October 28, 2004, from Dixion and Wally in accordance with 19 CFR 351.214(c), for a new shipper review of the antidumping duty order on brake rotors from the PRC, which has an April anniversary month.

Dixion and Wally each identified itself as the producer of the brake rotors it exports. As required by 19 CFR 351.214(b)(2)(i) and (iii)(A), each of the exporters identified above has certified that it did not export brake rotors to the United States during the period of investigation (“POI”), and that it has never been affiliated with any exporter or producer which did export brake rotors during the period of investigation (“POI”) (see each company's October 28, 2004, submission). Each company has further certified that its export activities are not controlled by the central government of the PRC, satisfying the requirements of 19 CFR 351.214(b)(2)(iii)(B). Pursuant to 19 CFR 351.214(b)(2)(iv)(A), Dixion and Wally each provided the date of the first sale to an unaffiliated customer in the United States. Dixion and Wally each submitted documentation establishing the date on which it first shipped the subject merchandise to the United States and the volume and date of entry of that shipment.

In accordance with section 751(a)(2)(B) of the Tariff Act of 1930 (“the Act”), as amended, and 19 CFR 351.214(b), and based on our analysis of the information and documentation provided with the new shipper review requests, as well as our analysis of proprietary import data from U.S. Customs and Border Protection (“CBP”), we find that Dixion and Wally have each met the requirements for the Department to initiate a new shipper review (for more details, see New Shipper Initiation Checklists for Dixion and Wally). Therefore, we are initiating a new shipper review for Dixion and Wally.

In cases involving non-market economies, it is the Department's normal practice to require that a company seeking to establish eligibility for an antidumping duty rate separate from the country-wide rate provide de jure and de facto evidence of an absence of government control over the company's export activities (see Natural Bristle Paintbrushes and Brush Heads from the People's Republic of China, 68 FR 57875 (October 7, 2003)). Accordingly, we will issue a questionnaire to Dixion and Wally (including a complete separate rates section), allowing approximately 37 days for response. If the response from each respondent provides sufficient indication that each company is not subject to either de jure or de facto government control with respect to its exports of brake rotors, the review with respect to that company will proceed. If, on the other hand, the respondent does not demonstrate its eligibility for a separate rate, then it will be deemed to be affiliated with other companies that exported during the POI and that it did not establish entitlement to a separate rate, and the review of that respondent will be rescinded.

Initiation of Review

In accordance with section 751(a)(2)(B)(ii) of the Act and 19 CFR 351.214(d)(1), we are initiating a new shipper review of the antidumping duty order on brake rotors from the PRC. We intend to issue the preliminary results of this review not later than 180 days after the date on which the review is initiated.

In accordance with 19 CFR 351.214(g)(1)(i)(B), the period of review (“POR”) for a new shipper review, initiated in the month following the semi-annual anniversary month, will be the six-month period immediately proceeding the semi-annual anniversary month. Therefore, the POR for this new shipper review is:

Antidumping duty new shipper review | Period to be reviewed
PRC: Brake Rotors, A-570-846:
Dixion Brake System (Longkou) Ltd. | 04/01/04-09/30/04
Laizhou Wally Automobile Co., Ltd. | 04/01/04-09/30/04

We will instruct CBP to allow, at the option of the importer, the posting, until the completion of the review, of a bond or security in lieu of a cash deposit for each entry of the subject merchandise from Dixion and Wally. This action is in accordance with section 751(a)(2)(B)(iii) of the Act, as amended, and 19 CFR 351.214(e). Because Dixion and Wally has each certified that it both produces and exports the subject merchandise, the sale of which was the basis for its new shipper review request, we will apply the bonding privilege only to entries of subject merchandise for which they are both the producer and exporter.

Interested parties that need access to proprietary information in this new shipper review should submit applications for disclosure under administrative protective order in accordance with 19 CFR 351.305 and 351.306.

This initiation and notice are in accordance with section 751(a)(2)(B) of the Act (19 U.S.C. 1675(a)) and 19 CFR 351.214(d).

Dated: November 24, 2004.
Barbara E. Tillman,
Acting Deputy Assistant Secretary for Import Administration.

[FR Doc. E4-3478 Filed 12-6-04; 8:45 am]

BILLING CODE: 3510-DS-P